DEPARTMENT OF ENERGY

10 CFR Parts 429, 430, and 431

[Docket Number EERE-2015-BT-TP-0007]

RIN 1904-AC91

Energy Conservation Program for Consumer Products and Certain Commercial and Industrial Equipment: Test Procedures for Consumer and Commercial Water Heaters

AGENCY: Office of Energy Efficiency and Renewable Energy, Department of Energy.

ACTION: Reopening of the public comment period and announcement of public meeting.

SUMMARY: On April 14, 2015, the U.S. Department of Energy (DOE) published in the Federal Register a notice of proposed rulemaking (NOPR) that proposes mathematical conversion factors for converting from the current efficiency metrics (i.e., energy factor for residential water heaters, and thermal efficiency and standby loss for commercial water heaters) to the uniform efficiency descriptor (i.e., uniform energy factor metric). The comment period for the NOPR pertaining to the test procedures for water heaters was scheduled to end May 14, 2015. After receiving a request for additional time to comment for stakeholders, DOE is reopening the comment period for the NOPR for the Conversion Factor for Test Procedures for Consumer and Certain Commercial Water Heaters to June 15, 2015. Additionally, at the request of stakeholders, DOE is announcing a public meeting to discuss the conversion factors for consumer and commercial water heaters.

DATES: Comments: The comment period for the NOPR for the Conversion Factor for Test Procedures for Consumer and Certain Commercial Water Heaters published on April 14, 2015 (80 FR 20116), is reopened. DOE will accept comments, data, and information regarding this NOPR before and after the public meeting, but no later than June 15, 2015.

Meeting: DOE will hold a public meeting on Thursday, May 28, 2015 from 10:00 a.m. to 4:00 p.m., in Washington, DC. The meeting will also be broadcast as a webinar.

ADDRESSES: Meeting: The meeting will be held at the U.S. Department of Energy, 950 L'Enfant Plaza, Room 7140, 950 L'Enfant Plaza, Washington, DC 20585. If you plan to attend the public meeting, please notify Ms. Brenda Edwards at (202) 586-2945 or Brenda.Edwards@ee.doe.gov. For further details, see the “Public Participation” section near the end of this document.

Comments: All comments submitted must identify the NOPR for the Conversion Factor for Test Procedures for Consumer and Certain Commercial Water Heaters, and provide docket number EERE-2015-BT-TP-0007 and/or RIN 1904-AC91. Interested persons are encouraged to submit comments using the Federal eRulemaking Portal at www.regulations.gov. Follow the instructions for submitting comments. Alternatively, interested persons may submit comments by any of the following methods:

• Email: ConsumerCommWaterHtrs2015TP0007@ee.doe.gov. Include the docket number and/or RIN in the subject line of the message. Submit electronic comments in WordPerfect, Microsoft Word, PDF, or ASCII file format, and avoid the use of special characters or any form of encryption.

• Postal Mail: Ms. Brenda Edwards, U.S. Department of Energy, Building Technologies Office, Mailstop EE-5B, 1000 Independence Avenue SW., Washington, DC 20585-0121. If possible, please submit all items on a compact disc (CD), in which case it is not necessary to include printed copies.

• Hand Delivery/Courier: Ms. Brenda Edwards, U.S. Department of Energy, Building Technologies Office, 950 L'Enfant Plaza SW., 6th Floor, Washington, DC 20024. Telephone: (202) 586-2945. If possible, please submit all items on a CD, in which case it is not necessary to include printed copies.

No telefacsimilies (faxes) will be accepted. For detailed instructions on submitting comments and additional information on the rulemaking process, see section V (Public Participation) of the April 14, 2015 NOPR for the Conversion Factor for Test Procedures for Consumer and Certain Commercial Water Heaters. 80 FR 20116.

Docket: The docket is available for review at www.regulations.gov, including Federal Register notices, comments, and other supporting documents/materials. All documents in the docket are listed in the www.regulations.gov index. However, not all documents listed in the index may be publicly available, such as information that is exempt from public disclosure.

A link to the docket Web page can be found at: http://www.regulations.gov/#!docketDetail;D=EERE-2015-BT-TP-0007. This Web page contains a link to the docket for this notice of proposed rulemaking on the www.regulations.gov site. The www.regulations.gov Web page contains simple instructions on how to access all documents, including public comments, in the docket. See section V, “Public Participation,” of the April 14, 2015 NOPR for information on how to submit comments through www.regulations.gov.

FOR FURTHER INFORMATION CONTACT: Ms. Ashley Armstrong, U.S. Department of Energy, Office of Energy Efficiency and Renewable Energy, Building Technologies Office, EE-5B, 1000 Independence Avenue SW., Washington, DC 20585-0121. Telephone: (202) 586-6590. Email: Ashley.Armstrong@ee.doe.gov.

Mr. Eric Stas, U.S. Department of Energy, Office of the General Counsel, GC-33, 1000 Independence Avenue SW., Washington, DC 20585-0121. Telephone: (202) 586-9507. Email: Eric.Stas@hq.doe.gov.

For information on how to submit a comment, to review other public comments and the docket, or to attend the public meeting, contact Ms. Brenda Edwards at (202) 586-2945 or by email: Brenda.Edwards@ee.doe.gov.

SUPPLEMENTARY INFORMATION: The Energy Policy and Conservation Act of 1975 (EPCA), as amended by the American Energy Manufacturing Technical Corrections Act (AEMTCA), Public Law 112-210, requires that DOE establish a uniform efficiency descriptor and accompanying test methods for covered residential water heaters and commercial water heating equipment within one year of the enactment of AEMTCA. (42 U.S.C. 6295(e)(5)(B)) Further, beginning one year after the date of publication of DOE's final rule establishing the uniform descriptor, EPCA requires that the efficiency standards for covered water heaters to be denominated according to the uniform efficiency descriptor established in the final rule (42 U.S.C. 6295(e)(5)(D)) and that DOE develop a mathematical conversion factor for converting the measurement of efficiency for covered water heaters from the test procedures and metrics currently in effect to the new uniform energy descriptor. (42 U.S.C. 6295(e)(5)(E)(i)-(ii)). On July 11, 2014, DOE published a final rule amending the test procedure for residential and certain commercial water heaters that satisfied the AEMTCA requirements to develop a uniform efficiency descriptor to replace the existing energy factor, thermal efficiency, and standby loss metrics. 79 FR 40542. Use of the amended test procedure is required beginning on July 13, 2015, for new testing. All representations must be based on the amended test procedure as of one year after the publication of a final rule that establishes a mathematical conversion factor. On April 14, 2015, DOE published a NOPR proposing mathematical conversion factors for converting from the current efficiency metrics (i.e., energy factor for residential water heaters, and thermal efficiency and standby loss for commercial water heaters) to the uniform efficiency descriptor (i.e., uniform energy factor metric). 80 FR 20116 (April 14, 2015).

In response to the NOPR for the Conversion Factor for Test Procedures for Consumer and Certain Commercial Water Heaters, the Air-Conditioning, Heating, and Refrigeration Institute (AHRI) requested a 60-day extension to the comment period, a public meeting, and a delay in compliance date for the test procedure. AHRI stated in its request that it needed additional time to analyze the specific conversion factors and underlying analysis, review the water heater tests conducted by DOE to assess to what extent those tests reflected the range of models covered by the test procedure, and evaluate the validity of the conclusions derived from the testing conducted by DOE as provided in the conversion factors and translated energy conservation standards. After careful consideration of this request, DOE has determined that extending the public comment period by reopening to allow additional time for interested parties to submit comments and that convening a public meeting are appropriate based on the foregoing reasons. Accordingly, DOE is granting approximately 30-day comment period extension and announcing a public meeting. In this document, DOE is reopening the comment period for the NOPR for the Conversion Factor for Test Procedures for Consumer and Certain Commercial Water Heaters to midnight of June 15, 2015 and will deem any comments received by that time to be timely submitted. Also, DOE will host a public meeting on Thursday, May 28, 2015. Additional details on the public meeting are provided in the DATES and ADDRESSES sections of this document.

DOE is not extending the compliance dates, which were set by statute based on the completion of various rulemakings. The test method will have been final for a year, and manufacturers should be able to test any new basic models using that test method. Furthermore, because the energy conservation standards for residential water heaters changed earlier this year, DOE expects that very few, new basic models will be introduced in the interim between July 13, 2015, and when the conversion factor final rule is effective.

Public Participation

All participants will undergo security processing upon building entry. Any participant with a laptop computer or similar device (e.g., tablets), must undergo additional screening. Note that any foreign national who requests to participate in the public meeting is subject to advance security screening prior to the date of the public meeting, and such persons should contact Ms. Brenda Edwards as soon as possible at (202) 586-2945 to commence the necessary procedures.

Due to the REAL ID Act implemented by the Department of Homeland Security (DHS), there have been recent changes regarding identification (ID) requirements for individuals wishing to enter Federal buildings from specific States and U.S. territories. As a result, driver's licenses from the following States or territory will not be accepted for building entry, and instead, one of the alternate forms of ID listed below will be required.

DHS has determined that regular driver's licenses (and ID cards) from the following jurisdictions are not acceptable for entry into DOE facilities: Alaska, American Samoa, Arizona, Louisiana, Maine, Massachusetts, Minnesota, New York, Oklahoma, and Washington.

Acceptable alternate forms of Photo-ID include: U.S. Passport or Passport Card; an Enhanced Driver's License or Enhanced ID-Card issued by the States of Minnesota, New York or Washington (Enhanced licenses issued by these States are clearly marked Enhanced or Enhanced Driver's License); a military ID or other Federal government-issued Photo-ID card.

In addition, you can attend the public meeting via webinar. Webinar registration information, participant instructions, and information about the capabilities available to webinar participants at: https://attendee.gotowebinar.com/register/7036563622426238210 Participants are responsible for ensuring their systems are compatible with the webinar software.

Issued in Washington, DC, on May 12, 2015.
Kathleen B. Hogan,
Deputy Assistant Secretary for Energy Efficiency, Energy Efficiency and Renewable Energy.

[FR Doc. 2015-12221 Filed 5-19-15; 8:45 am]

BILLING CODE 6450-01-P